INTERNATIONAL TRADE COMMISSION

[USITC SE-16-017]

Government in the Sunshine Act Meeting Notice

AGENCY HOLDING THE MEETING: United States International Trade Commission.

TIME AND DATE: May 20, 2016 at 1:00 p.m.

PLACE: Room 101, 500 E Street SW., Washington, DC 20436, Telephone: (202) 205-2000.

STATUS: Open to the public.

MATTERS TO BE CONSIDERED:

1. Agendas for future meetings: None.

2. Minutes.

3. Ratification List.

4. Vote in Inv. Nos. 701-TA-559-561 and 731-TA-1317-1328 (Preliminary) (Certain Carbon and Alloy Steel Cut-to-Length Plate from Austria, Belgium, Brazil, China, France, Germany, Italy, Japan, Korea, South Africa, Taiwan, and Turkey). The Commission is currently scheduled to complete and file its determinations on May 23, 2016; views of the Commission are currently scheduled to be completed and filed on May 31, 2016.

5. Outstanding action jackets: None.

In accordance with Commission policy, subject matter listed above, not disposed of at the scheduled meeting, may be carried over to the agenda of the following meeting.

By order of the Commission:
Issued: May 10, 2016.
William R. Bishop,
Supervisory Hearings and Information Officer.

[FR Doc. 2016-11447 Filed 5-11-16; 11:15 am]

BILLING CODE 7020-02-P